DEPARTMENT OF THE TREASURY

Internal Revenue Service

26 CFR Part 1

[TD 9979]

RIN 1545-BQ81

Additional Guidance on Low-Income Communities Bonus Credit Program

Correction

In Rule Document 2023-17078, appearing on pages 55506 to 55548 in the issue of Tuesday, August 15, 2023, in the second column, on page 55540, amendatory instruction 2 is corrected to read as follows:

Par. 2. Sections 1.48(e)-0 and 1.48(e)-1 are added to read as follows:

[FR Doc. C1-2023-17078 Filed 8-28-23; 8:45 am]

BILLING CODE 0099-10-P